SECURITIES AND EXCHANGE COMMISSION

[File No. 500-1]

Order of Suspension of Trading; Airtrax, Inc., Amedia Networks, Inc., American Business Financial Services, Inc., Appalachian Bancshares, Inc., and Ariel Way, Inc.

May 3, 2012.

It appears to the Securities and Exchange Commission that there is a lack of current and accurate information concerning the securities of Airtrax, Inc. because it has not filed any periodic reports since the period ended March 31, 2008.

It appears to the Securities and Exchange Commission that there is a lack of current and accurate information concerning the securities of Amedia Networks, Inc. because it has not filed any periodic reports since the period ended September 30, 2007.

It appears to the Securities and Exchange Commission that there is a lack of current and accurate information concerning the securities of American Business Financial Services, Inc. because it has not filed any periodic reports since the period ended September 30, 2004.

It appears to the Securities and Exchange Commission that there is a lack of current and accurate information concerning the securities of Appalachian Bancshares, Inc. because it has not filed any periodic reports since the period ended June 30, 2009.

It appears to the Securities and Exchange Commission that there is a lack of current and accurate information concerning the securities of Ariel Way, Inc. because it has not filed any periodic reports since the period ended June 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on May 3, 2012, through 11:59 p.m. EDT on May 16, 2012.

By the Commission.
Elizabeth M. Murphy,
Secretary.

[FR Doc. 2012-11020 Filed 5-3-12; 11:15 am]

BILLING CODE 8011-01-P